DEPARTMENT OF TRANSPORTATION

Federal Aviation Administration

14 CFR Part 71

[Airspace Docket No. 01-AAL-1]

Revocation of Class E Airspace; Umiat, AK

AGENCY: Federal Aviation Administration (FAA), DOT.

ACTION: Final rule.

SUMMARY: This action revokes Class E airspace at Umiat, AK. This action is necessary because the Umiat airport no longer meets the requirements for Class E airspace to protect Instrument Flight Rules (IFR) operations at Umiat, AK. This rule results in the removal of controlled airspace at Umiat, AK.

EFFECTIVE DATE: 0901 UTC, June 13, 2002.

FOR FURTHER INFORMATION CONTACT: Derril D. Bergt, AAL-538, Federal Aviation Administration, 222 West 7th Avenue, Box 14, Anchorage, AK 99513-7587; telephone number (907) 271-2796; fax: (907) 271-2850; e-mail: Derril.CTR.Bergt@faa.gov. Internet address: http://www.alaska.faa.gov/at or at address http://162.58.28.41/at.

SUPPLEMENTARY INFORMATION:

History

On November 7, 2001, a proposal to amend part 71 of the Federal Aviation Regulations (14 CFR part 71) to revoke the Class E airspace at Umiat, AK, was published in the Federal Register (66 FR 56257). The Umiat airport does not have a standard instrument approach procedure, it is unattended, and does not meet the requirements to be used as an IFR alternate. The Colored Federal Airway Amber 4 (A-4) was realigned and Colored Federal Airway Amber 6 (A-6) was revoked on December 3, 1998 (63 FR 53279, 5 Oct 1998, Airspace Docket 98-AAL-6) in conjunction with the removal of the Umiat Nondirectional Radio Beacon (NDB). The Umiat NDB was decommissioned in October 1999 resulting in the loss of the instrument approach procedure. With the subsequent cancellation of the A-Paid weather observer contract, there are now no aviation weather sources at Umiat, AK. Futhermore, the Umiat airport is not included in the National Plan of Integrated Airport Systems. Thus, the Umiat airport does not qualify for Class E airspace. This rule revokes the Class E controlled airspace intended for IFR operations at Umiat, AK.

Interested parties were invited to participate in this rulemaking proceeding by submitting written comments on the proposal to the FAA. No public comments have been received, thus, the rule is adopted as written.

The area will be depicted on aeronautical charts for pilot reference. The coordinates for this airspace docket are based on North American Datum 83. The Class E airspace areas extending upward from 700 feet or more above the surface of the earth are published in paragraph 6005 of FAA Order 7400.9J, Airspace Designations and Reporting Points, dated August 31, 2001, and effective September 16, 2001, which is incorporated by reference in 14 CFR 71.1. The Class E airspace designation listed in this document will be revoked and revised subsequently in the Order.

The FAA has determined that this proposed regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9J, Airspace Designations and Reporting Points, dated August 31, 2001, and effective September 16, 2001, is amended as follows:

* * * * *

Paragraph 6005 Class E airspace extending upward from 700 feet or more above the surface of the earth.

* * * * *

AAL AK E5 Umiat, AK [REVOKED]

* * * * *

Issued in Anchorage, AK, on February 21, 2002.
Stephen P. Creamer,
Assistant Manager, Air Traffic Division, Alaskan Region.

[FR Doc. 02-5114 Filed 3-8-02; 8:45 am]

BILLING CODE 4910-13-U